ENVIRONMENTAL PROTECTION AGENCY

[FRL-9106-8]

Science Advisory Board Staff Office; Notification of a Clean Air Scientific Advisory Committee (CASAC); Ambient Air Methods and Monitoring Subcommittee (AAMMS); Meeting and Public Teleconference

AGENCY: Environmental Protection Agency (EPA).

ACTION: Notice.

SUMMARY: The Environmental Protection Agency (EPA or Agency) Science Advisory Board (SAB) Staff Office is announcing a public meeting of the Clean Air Scientific Advisory Committee (CASAC) Ambient Air Monitoring & Methods Subcommittee (AAMMS or Subcommittee) to provide advice concerning ambient air monitoring issues for the Particulate Matter (PM) National Ambient Air Quality Standards (NAAQS) related to urban visibility. The chartered CASAC will subsequently hold a public teleconference to review and approve the Subcommittee's report.

DATES: The CASAC AAMMS meeting will be held on Tuesday, February 24, 2010 from 9 a.m. to 5:30 p.m. (Eastern Time) and Wednesday, February 25, 2010 from 8 a.m. to 2 p.m. (Eastern Time). The public teleconference will be held on March 26, 2010 from 10 a.m. to 12 p.m. (Eastern Time).

ADDRESSES: The public meeting will be held at the SAB Conference Center at 1025 F Street, NW., Suite 3700, Washington, DC 20004.

FOR FURTHER INFORMATION CONTACT: Any member of the public who wishes to submit a written or brief oral statement or wants further information concerning the February 24-25, 2010 meeting may contact Ms. Kyndall Barry, Designated Federal Officer (DFO), EPA Science Advisory Board (1400F), U.S. Environmental Protection Agency, 1200 Pennsylvania Avenue, NW., Washington, DC 20460; via telephone/voice mail (202) 343-9868; fax (202) 233-0643; or e-mail at barry.kyndall@epa.gov. For information on the CASAC teleconference on March 26, 2010, please contact Dr. Holly Stallworth, Designated Federal Officer (DFO), at the above listed address; via telephone/voice mail (202) 343-9867 or e-mail at stallworth.holly@epa.gov. General information concerning the CASAC and the CASAC documents can be found on the EPA Web site at http://www.epa.gov/casac.

SUPPLEMENTARY INFORMATION: Background: Pursuant to the Federal Advisory Committee Act, Public Law 92-463 5 U.S.C., App. 2 (FACA), notice is hereby given that the CASAC AAMMS will hold a public meeting to provide advice on monitoring issues related PM urban visibility and that the chartered CASAC will hold a public teleconference to review and approve the Subcommittee's draft report. The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel and chartered CASAC will comply with the provisions of FACA and all appropriate SAB Staff Office procedural policies.

Section 109(d)(1) of the CAA requires that the Agency periodically review and revise, as appropriate, the air quality criteria and the NAAQS for the six “criteria” air pollutants, including particulate matter. The EPA Office of Air and Radiation requested AAMMS advice on monitoring issues related to urban visibility. In October 2006, EPA issued the final rule to revise both the primary and secondary NAAQS for PM (71 FR 61144) and retain PM10 as the indicator for thoracic coarse particles. The secondary standards for PM2.5 and PM10 were set identical to the respective primary standards to address PM-related welfare effects including visibility impairment, effects on vegetation and ecosystems, materials damage and soiling, and effects on climate change. The Agency is considering development of a specific indicator for urban visibility in support of a future secondary NAAQS. CASAC has been asked to provide advice on proposed options for an urban visibility indicator, and any methods and equipment for its direct measurement. The Agency is also seeking advice from AAMMS on options for a potential pilot monitoring network and/or a nationwide enforcement network for PM welfare effects. The chartered CASAC will hold a public teleconference to review the AAMMS draft report on March 26, 2010.

Technical Contacts: Any technical questions concerning the indicator and ambient air monitoring issues related to the PM NAAQS can be directed to Mr. Tim Hanley, OAQPS, at hanley.tim@epa.gov or (919) 541-4417.

Availability of Meeting Materials: The Agency document, PM Light Extinction Measurements for a Possible Secondary PM NAAQS, will be posted on the EPA Technology Transfer Network Web site on the respective page for Ambient Monitoring Technology Information Center at http://www.epa.gov/ttn/amtic/casacinf.html. Prior to the meetings, the agendas and other materials for these CASAC meetings will be accessible through the calendar link on the blue navigation bar at http://www.epa.gov/casac/.

Procedures for Providing Public Input: Interested members of the public may submit relevant written or oral information for consideration on the topics included in this advisory activity. Oral Statements: To be placed on the public speaker list for the

February 24-25, 2010 meeting, interested parties should notify Ms. Kyndall Barry, DFO, by e-mail no later than February 12, 2009. To be placed on the public speaker list for the March 26, 2010 teleconference, interested parties should notify Dr. Holly Stallworth, DFO, by e-mail no later than March 15, 2010. Individuals making oral statements will be limited to five minutes per speaker. Written Statements: Written statements for the February 24-25, 2010 meeting should be received in the SAB Staff Office by

February 12, 2010, so that the information may be made available to the CASAC Panel for its consideration prior to this meeting. Written statements for the March 26, 2010 meeting should be received in the SAB Staff Office by March 12, 2010. Written statements should be supplied to the appropriate DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Ms. Barry at the phone number or e-mail address noted above, preferably at least ten days prior to the meeting, to give EPA as much time as possible to process your request.

Dated: January 20, 2010.
Vanessa T. Vu,
Director, EPA Science Advisory Board Staff Office.

[FR Doc. 2010-1466 Filed 1-25-10; 8:45 am]

BILLING CODE 6560-50-P